DEPARTMENT OF COMMERCE

National Oceanic and Atmospheric Administration

50 CFR Part 300

[Docket No. 071031633-7834-01]

RIN 0648-AW23

Pacific Halibut Fisheries; Guided Sport Charter Vessel Fishery for Halibut

AGENCY: National Marine Fisheries Service (NMFS), National Oceanic and Atmospheric Administration (NOAA), Commerce.

ACTION: Proposed rule; request for comments.

SUMMARY: NMFS proposes regulations that would limit the harvest of Pacific halibut by guided sport charter vessel anglers in International Pacific Halibut Commission (IPHC) Area 2C of Southeast Alaska to the guideline harvest level (GHL) for that area under two different scenarios. First, if the GHL remains unchanged in 2008, a suite of three management measures are proposed to be added to an existing two-halibut daily catch and size limit. These management measures include a prohibition on the harvest of halibut by charter vessel guides, operators, and crew; a limit on the number of fishing lines that may be used on a charter vessel of six or the number of charter vessel anglers onboard, whichever is less; and an annual catch limit of four halibut per charter vessel angler. Second, if the GHL decreases in 2008, then a one-halibut daily catch limit is proposed to be substituted for the existing two-halibut daily catch limit. The prohibition of halibut harvest by charter vessel guides, operators, and crew, and the 6-line limit also are proposed under the second scenario. This proposed regulatory change is necessary to reduce the halibut harvest in the charter vessel sector to the GHL for Area 2C. The intended effect of this action is a reduction in the poundage of halibut harvested by the guided sport charter vessel sector in Area 2C to the GHL while minimizing adverse impacts on the charter fishery, its sport fishing clients, the coastal communities that serve as home ports for this fishery, and on fisheries for other species.

DATES: Comments must be received no later than January 30, 2008.

ADDRESSES: Send comments to Sue Salveson, Assistant Regional Administrator, Sustainable Fisheries Division, Alaska Region, NMFS, Attn: Ellen Sebastian. You may submit comments, identified by “RIN 0648-AW23” by any one of the following methods:

• Electronic Submissions: Submit all electronic public comments via the Federal eRulemaking Portal Web site at http://www.regulations.gov.

• Mail: P. O. Box 21668, Juneau, AK 99802.

• Fax: (907) 586-7557.

• Hand delivery to the Federal Building: 709 West 9th Street, Room 420A, Juneau, AK.

All comments received are a part of the public record and will be posted to http://www.regulations.gov without change. All Personal Identifying Information (e.g., name, address) voluntarily submitted by the commenter may be publicly accessible. Do not submit Confidential Business Information or otherwise sensitive or protected information.

NMFS will accept anonymous comments. Attachments to electronic comments must be in Microsoft Word, Excel, WordPerfect, or Adobe portable document file (pdf) formats to be accepted.

Copies of the Environmental Assessment (EA), Regulatory Impact Review (RIR), and Initial Regulatory Flexibility Analysis (IRFA) prepared for this action may be obtained from the North Pacific Fishery Management Council (Council) at 605 West 4th, Suite 306, Anchorage, Alaska 99501-2252, 907-271-2809, or the NMFS Alaska Region, P.O. Box 21668, Juneau, Alaska 99802, Attn: Ellen Sebastian, and on the NMFS Alaska Region Web site at http://www.noaa.fakr.gov.

Written comments regarding the burden-hour estimates or other aspects of the collection-of-information requirements contained in this rule may be submitted to NMFS at the above address, and by e-mail to David_Rostker@omb.eop.gov or by fax to 202-395-7285.

FOR FURTHER INFORMATION CONTACT: Jay Ginter, 907-586-7228, jay.ginter@noaa.gov, or Julie Scheurer, 907-586-7356, julie.scheurer@noaa.gov.

SUPPLEMENTARY INFORMATION: The International Pacific Halibut Commission (IPHC) and NMFS manage fishing for Pacific halibut (Hippoglossus stenolepis) through regulations established under the authority of the Northern Pacific Halibut Act of 1982 (Halibut Act). The IPHC promulgates regulations governing the halibut fishery under the Convention between the United States and Canada for the Preservation of the Halibut Fishery of the Northern Pacific Ocean and Bering Sea (Convention). The IPHC's regulations are subject to approval by the Secretary of State with concurrence from the Secretary of Commerce (Secretary). After approval by the Secretaries of State and Commerce, the IPHC regulations are published in the Federal Register as annual management measures pursuant to 50 CFR 300.62 (March 14, 2007; 72 FR 11792).

The Halibut Act also provides the Council with authority to recommend regulations to the Secretary to allocate harvesting privileges among U.S. fishermen. This process requires the Council to submit a recommendation to the Secretary as a proposed rule for publication in the Federal Register along with supporting analyses as required by other applicable law. The Council has exercised this authority, most notably in the development of its Individual Fishing Quota (IFQ) Program, codified at 50 CFR part 679, and subsistence halibut fishery management measures, codified at 50 CFR 300.65. The Council also has been developing a regulatory program to manage the guided sport charter vessel fishery for halibut. The regulatory program proposed by this action is linked to the overall management of the halibut fisheries by the IPHC and a previous action by the Council and NMFS to establish a guideline harvest level (GHL) for managing the harvest of halibut by the guided sport charter vessel fishery (August 8, 2003; 68 FR 47256).

Management of the Halibut Fisheries

The harvest of halibut occurs in three basic fisheries—the commercial, sport, and subsistence fisheries. Additional fishing mortality occurs as bycatch or incidental catch while targeting other species and wastage of halibut that are caught but cannot be used for human food.

The IPHC annually determines the amount of halibut that may be removed from the resource without causing biological conservation problems on an area-by-area basis in all areas of Convention waters. It imposes catch limits, however, on only the commercial sector in areas in and off of Alaska. The IPHC estimates the exploitable biomass of halibut using a combination of harvest data from the commercial, recreational, subsistence fisheries, and information collected during scientific surveys and sampling of bycatch in other fisheries. The target amount of allowable harvest for a given area is calculated by multiplying a fixed harvest rate by the estimate of exploitable biomass. This target level is called the total constant exploitation yield (CEY) as it represents the target level for total removals (in net pounds) for that area in the coming year. The IPHC subtracts estimates of all non-commercial removals (sport, subsistence, bycatch, and wastage) from the total CEY. The remaining CEY, after the removals are subtracted, is the maximum catch or “fishery CEY” for an area's directed commercial fixed gear fishery.

This method of determining the commercial fishery's catch limit in an area results in a decrease in the commercial fishery's use of the resource as other non-commercial uses increase their proportion of the total CEY. As conservation of the halibut resource is the overarching goal of the IPHC, it attempts to include all sources of fishing mortality of halibut within the total CEY. This method for determining the limit for the commercial use of halibut has worked well for many years to conserve the halibut resource, provided that the other non-commercial uses of the resource have remained relatively stable and small. Although most of the non-commercial uses of halibut have been relatively stable, growth in the guided sport charter vessel fishery in recent years, particularly in Area 2C, has resulted in the guided sport charter vessel fishery harvesting a larger amount of halibut, thereby reducing the amount available to the commercial fishery.

Guideline Harvest Level (GHL)

Currently, the Council's only approved management policy in effect for the charter vessel fisheries is to have separate GHLs for Area 2C and Area 3A (50 CFR 300.65(c)). The GHLs serve as benchmarks for monitoring the charter vessel fishery relative to the commercial fishery and other sources of fishing mortality. The GHLs do not limit the charter vessel fisheries. Although it is the Council's policy that the charter vessel fisheries should not exceed the GHLs, no constraints have been imposed on the charter vessel fisheries for GHLs that have been exceeded in the past.

The Council has discussed the expansion of the charter vessel fishery for halibut since 1993. The GHLs were initially adopted by the Council in 1997 without implementing regulations. The Council stated its intent to maintain a stable charter vessel fishing season without a mid-season closure. If a GHL were exceeded, other management measures would be triggered to take effect in years following attainment of the GHL. The Council envisioned “framework” regulations of increasing restrictiveness depending on the extent to which a GHL was exceeded. Proposed framework regulations were published in 2002 (January 28, 2002; 67 FR 3867); however, NMFS informed the Council later that year that its framework regulations could not be implemented as envisioned. Hence, a final rule establishing the GHLs was published without any restrictive regulations (August 8, 2003; 68 FR 47256).

The GHLs represent a pre-season specification of acceptable annual halibut harvests in the charter vessel fisheries in Areas 2C and 3A. To accommodate some growth in the charter vessel sector while approximating historical harvest levels, the Council recommended GHLs based on 125 percent of the average 1995 through 1999 charter vessel harvest. For Area 2C the GHL was set at 1,432,000 lb (649.5 mt) net weight, and in Area 3A the GHL was set at 3,650,000 lb (1,655.6 mt) net weight. When the Council recommended these GHLs, halibut stocks were considered to be near record high levels of abundance. To accommodate decreases and subsequent increases in abundance, the Council recommended a system of step-wise adjustments in each GHL based on a predetermined uniform measure of stock abundance. The measure used was the CEY determined annually by the IPHC. Specifically, the Council linked a step-wise reduction in the GHL in any one year to the decrease in the CEY as compared to the 1999 through 2000 average CEY. For example, if the halibut stock in Area 2C were to fall from 15 to 24 percent below its 1999 through 2000 average CEY, then the GHL for Area 2C would be reduced by 15 percent. Conversely, as the CEY increased from low levels, the GHL also would increase in the same step-wise manner. However, regardless of how high the CEY may rise above its 1999 through 2000 average, the GHLs were not designed to increase above their maximum amounts. Since 2003 when the GHLs became effective, they have never been reduced below their maximum level because declines in the total CEY have not been sufficient to trigger the first step reduction of the GHLs.

Recent Harvests of Halibut in Area 2C

In Area 2C, the commercial, sport and subsistence harvest of halibut over the past 10 years (1997 through 2006) has been estimated by the IPHC to average about 12.454 million lb (5,649.0 mt) per year. Of this annual average total removal from the halibut resource, the commercial fishery accounts for about 76.7 percent, the sport fishery (guided and unguided combined) account for about 19.1 percent, and the remaining 4.2 percent may be attributed to subsistence, bycatch, and wastage combined. Estimates of the subsistence harvest of halibut were made based on surveys conducted by the Alaska Department of Fish and Game (ADF&G) during the past three years and average about 600,000 lb (272.2 mt) per year.

In the most recent three years (2004 through 2006), the annual average of total halibut removals in Area 2C is 14.142 million lb (6,414.7 mt) of which the commercial fishery has taken about 73.8 percent, the sport fishery has taken about 20.7 percent, the subsistence fishery has taken about 4.3 percent, and about 1.2 percent is attributed to bycatch and wastage. The commercial fishery is the primary user of the halibut resource in Area 2C followed by the sport fishery, which together account for almost 95 percent of the total removals from the halibut resource.

In Area 2C, the sport fishery is comprised of guided fishing on charter vessels and unguided angling. Residents of Southeast Alaska and their family and friends are the primary unguided anglers, while non-resident tourists are the main clients for guided fishing on charter vessels. The linkage between guided sport fishing and tourism is apparent from data collected by ADF&G and compiled by IPHC staff. Over the past 10 years (1997 through 2006), the average guided sport harvest of halibut has been 1.431 million lb (649.1 mt) per year and the unguided sport harvest of halibut has amounted to 0.951 million lb (431.4 mt) per year. Proportionately, the guided charter vessel harvest to unguided sport harvest has been a ratio of about 60 to 40. The guided sport harvest has increased in more recent years. Over the past five years (2002 through 2006), the annual guided sport charter vessel harvest amounted to an average 63.9 percent of the total sport harvest of halibut in Area 2C, and in 2005 reached a record 69.8 percent of the total sport harvest. In response, the Council is considering a management program to restrict the charter vessel harvest of halibut.

Since their implementation in 2003, the GHLs for Areas 3A and 2C have been exceeded by the charter vessel halibut harvest in 2004, 2005, and 2006. In Area 2C, based on ADF&G sport fishing survey data, the charter vessel harvest in 2003 was one percent under the GHL, but in 2004 and 2005, it was 22 percent and 36 percent over the GHL, respectively.

The total Area 2C harvest of halibut by the sport fishery in 2006 was 2.537 million lb (1,150.8 mt), based on final ADF&G sport harvest estimates reported in October 2007. Of this amount, the charter fishery harvested 1.812 million lb (821.9 mt) or 71.4 percent and the unguided harvest was 0.725 million lb (328.8 mt) or 28.6 percent. Hence, the charter harvest exceeded its 2006 Area 2C GHL by 380,000 lb (172.4 mt) or 26.5 percent. This overage is substantially less than ADF&G's preliminary projection of 2006 charter harvests made in October 2006. At that time, ADF&G had preliminary projections indicating that the 2006 charter harvest of halibut could be as much as 2.113 million pounds (958.4 mt) or 47 percent above the Area 2C GHL. The ADF&G preliminary projections of the overage of the GHL in 2006 produced responses in 2007 from the Council and the three management agencies involved: IPHC, NMFS, and ADF&G.

Management Agencies' Response in 2007

At its annual meeting in January 2007, the IPHC adopted a motion to recommend reducing the daily bag limit for anglers on charter vessels in Areas 2C and 3A from two halibut to one halibut during certain time periods. Specifically, for Area 2C, the IPHC recommended that the one-fish daily bag limit should apply to guided anglers from June 15 through July 30. The IPHC recommended this temporary bag limit reduction because it believed its management goals were at risk by the magnitude of the charter halibut harvest in excess of the GHL, especially in Area 2C. This action was not explicitly designed to manage the charter fishery to the Council's GHLs but rather to initiate some control on what appeared to be a constantly increasing charter vessel harvest. The IPHC took this action reluctantly. It stated that its preference was for the Council to resolve the allocation issue between the sport charter and commercial sectors. Moreover, it delayed the effective date of the reduced bag limit to June 15 to afford the Secretary time to resolve the issue under U.S. domestic law with regulations that would achieve “comparable reductions” in halibut harvest by the charter vessel fishery.

In a letter to the IPHC on March 1, 2007, the Secretary of State, with concurrence from the Secretary, rejected the recommended one-fish daily bag limit in Areas 2C and 3A, and indicated that appropriate reduction in the charter vessel harvest in these areas would be achieved by a combination of ADF&G and NMFS regulatory actions. For Area 2C, the State of Alaska Commissioner of Fish and Game (hereafter, State Commissioner) issued an emergency order to prohibit retention of fish by charter vessel guides and crew members (No. 1-R-02-07). This emergency order was similar to one issued for 2006. This action was intended, in conjunction with other measures, to reduce the 2007 charter vessel harvest of halibut to levels comparable to the IPHC-recommended bag limit reduction which was estimated to range from 397,000 (180.1 mt) pounds to 432,000 pounds (195.9 mt).

Regulatory action to remedy this problem by June 2007 required the Secretary, through NMFS, to develop regulations independent of the Council process. The analysis of alternative restrictions had an explicit goal of finding the best alternative that would reduce sport fishing mortality of halibut in the charter vessel sector in Area 2C to a level comparable to the level that would have been achieved by the IPHC-recommended regulations and in a manner that would minimize adverse impacts on the charter fishery, its sport fishing clients, the coastal communities that serve as home ports for this fishery, and on fisheries for other species. The preferred alternative selected by NMFS maintained the traditional two-fish daily bag limit provided that at least one of the harvested halibut has a head-on length of no more than 32 inches (81.3 cm). If a charter vessel angler retains only one halibut in a calendar day, that fish may be of any length. Regulations implementing this partial maximum size limit were published on June 4, 2007 (72 FR 30714).

The Council also was considering management alternatives for the charter vessel halibut fishery in Area 2C during the first half of 2007. Unlike the IPHC, ADF&G, and NMFS actions, however, the Council's alternatives were designed specifically to maintain the charter vessel fishery to its GHL. In June 2007, the Council adopted a preferred alternative that contained two options. The Council recommended that the selection between the options depend on whether the CEY decreases substantially for 2008. As explained above, the GHLs for Area 2C and 3A are linked to the CEY determined annually by the IPHC as a basis for setting the commercial fishery catch limits in these areas. A substantial decrease in the CEY could cause the GHL for Area 2C to decrease from its current 1.432 million lb (649.5 mt) to 1.217 million lb (552.0 mt). Not knowing in June 2007 how the GHL may be affected by IPHC action in January 2008, the Council recommended a suite of charter vessel fishery restrictions if the GHL remains the same in 2008 (Option A) and a different, more restrictive, suite of restrictions if the GHL decreases in 2008 (Option B). This Council recommendation is the basis for this proposed regulatory action.

The Proposed Action

As recommended by the Council in June 2007, this action proposes management measures to reduce the charter vessel fishery harvest of halibut in Area 2C to the GHL under two scenarios—Option A if the GHL for this area remains the same in 2008, and Option B if the GHL decreases in 2008. NMFS encourages public comment on all regulatory options to maximize the ability of NMFS to achieve the intent of the Council to limit the catch of the guided sport charter vessel fishery in Area 2C to the GHL while minimizing the adverse impacts on the charter fishery, its sport fishing clients, the coastal communities that serve as home ports for this fishery, and on fisheries for other species. In brief, the specific options recommended by the Council are as follows:

Option A management measures for the charter vessel halibut fishery in Area 2C.

• Two fish daily bag limit provided that one fish is no more than 32 inches (81.3 cm) in length (existing regulation at 50 CFR 300.65(d));

• A charter vessel guide, a charter vessel operator, and crew of a charter vessel must not catch and retain halibut during a charter fishing trip;

• The number of lines used to fish for halibut must not exceed six or the number of charter vessel anglers onboard the charter vessel, whichever is less; and

• The combined number of halibut that may be harvested by a charter vessel angler in Area 2C during a calendar year must not exceed four fish.

Option B management measures for the charter vessel halibut fishery in Area 2C.

• The number of halibut caught and retained by each charter vessel angler in Area 2C is limited to no more than one halibut per calendar day;

• A charter vessel guide, a charter vessel operator, and crew of a charter vessel must not catch and retain halibut during a charter fishing trip; and

• The number of lines used to fish for halibut must not exceed six or the number of charter vessel anglers onboard the charter vessel, whichever is less.

Option A Management Measures

The following management measures were recommended by the Council if the GHL remains unchanged in 2008. If implemented, the proposed regulations would remain in effect until changed by a new Federal regulatory action.

Daily bag and maximum size limit. The existing regulation (at 50 CFR 300.65(d)) in effect since June 1, 2007 (72 FR 30714, June 4, 2007), reads as follows:

In Commission Regulatory Area 2C, halibut harvest on a charter vessel is limited to no more than two halibut per person per calendar day provided that at least one of the harvested halibut has a head-on length of no more than 32 inches (81.3 cm). If a person sport fishing on a charter vessel in Area 2C retains only one halibut in a calendar day, that halibut may be of any length.

Before June 1, 2007, the daily catch limit applicable to charter vessel anglers was the same as that which applies to all sport fishing for halibut in Alaska, which is two halibut of any size per person. This two-fish daily bag limit for sport fishermen is an IPHC regulation (section 25(2)(b) at 72 FR 11801; March 14, 2007) first imposed in 1975. The NMFS regulation in June 2007 simply supplemented the traditional two-fish bag limit with the additional requirement that one of the two fish must be no more than 32 inches (81.3 cm) in length. If only one halibut is retained, it may be of any length.

No substantive change in this requirement is proposed by Option A. Minor changes in the text are proposed, however, due to other changes proposed in this action. Specifically, § 300.65(d) would have a new heading that would move the text currently at § 300.65(d) to § 300.65(d)(1), and that would have a new heading specifying “daily bag limit in Area 2C.” As a result, the existing introductory phrase, “In Commission Regulatory Area 2C” would be removed as redundant. In addition, the second sentence of the paragraph would be changed by substituting the phrase, “If a charter vessel angler” for the existing phrase “If a person sport fishing on a charter vessel in Area 2C.” This change is proposed because a new definition of “charter vessel angler” is proposed and reiterating “in Area 2C” is unnecessary due to the new paragraph heading that already makes clear the geographic application of the regulation.

No harvest by skipper and crew. A new Federal restriction is proposed prohibiting the harvest of halibut by the charter vessel guide, the charter vessel operator, and the charter vessel crew during a charter vessel fishing trip. The language of the Council's motion adopting this recommendation reads, “no harvest by skipper and crew when clients are on board the charter vessel.” Although a sport fishing guide on a charter vessel in Area 2C is likely to be the same person as the “skipper,” captain, or operator of the vessel, in some cases the skipper and guide could be different persons. Hence, this proposed rule makes clear the Council's intent of applying this restriction to all persons-guide, skipper or operator, and crew-involved with the delivery of onboard services to the charter vessel angler.

The proposed regulation deviates from the Council's adopted motion language also in that the phrase “when clients are on board” is not used in the proposed regulation. Instead, the proposed regulation would limit the skipper and crew harvesting prohibition to a charter vessel fishing trip. A new definition is proposed in this action for “charter vessel fishing trip” which describes the period from the first deployment of fishing gear from a charter vessel until the offloading of any charter vessel angler or halibut. Also, an existing definition of “charter vessel” (at § 300.61) describes such a vessel as one “used for hire in sport fishing for halibut, but not including a vessel without a hired operator.” Hence, the effect of the proposed regulation would be the same as that intended by the Council, which is to prohibit retention of halibut caught by the guide, skipper, and crew on a charter vessel, but not to impose this restriction when no clients or charter vessel anglers are onboard. A vessel without clients or paying anglers onboard is, by definition, not a charter vessel. Therefore, guides, skippers, and crew would not be prevented from sport fishing for halibut for themselves when they are not on a charter vessel fishing trip.

The Council recommended this restriction to make it more specific to halibut harvest on charter vessels in Area 2C. As discussed above, the State Commissioner's emergency order prohibiting the retention of all fish by the skipper and crew of a charter vessel in Area 2C was implemented in 2007. The State Commissioner could not make his emergency order apply only to halibut because he has no authority under the Halibut Act to directly regulate halibut fishing. A comprehensive application of the emergency order to all fish effectively prevented charter vessel skippers and crews from harvest of salmon, rockfish, lingcod, and other species. Charter vessel operators requested relief from this comprehensive prohibition on skipper and crew harvests by having a Federal prohibition on skipper and crew harvest apply only to halibut. Assuming that the State Commissioner does not reissue his earlier emergency order for other reasons, this action would relieve charter vessel skippers and crew from the more comprehensive prohibition against retention of all fish on charter vessels but would impose this prohibition on the retention of halibut.

The Council's original analysis of alternatives, prepared for its meeting in June 2007, indicated that the daily bag/maximum size limit and prohibition on skipper/crew harvest of halibut together would reduce the charter vessel harvest in Area 2C to 115 percent to 106 percent of the GHL (Table 15 in EA/RIR/IRFA, see ADDRESSES). The fact that these management measures would fall short of achieving the GHL is not surprising as they were designed by NMFS and ADF&G and implemented in 2007 for a different purpose-not to achieve the GHL, but instead to reduce charter vessel halibut harvests to a comparable extent to what would have been realized under the IPHC recommendation.

In October 2007, ADF&G published its final estimate of charter vessel harvests in Area 2C. This final estimate indicated fewer halibut were being harvested by the charter vessel sector in 2006 than had been preliminarily estimated by ADF&G a year earlier. In fact, the revised ADF&G estimate for 2006 showed the first decrease in the growth of halibut pounds harvested by charter vessels since 1999. The agency's preliminary estimate of the 2006 charter vessel halibut harvest in Area 2C in October 2006 of 2.113 million lb (958.4 mt) was reduced in its final estimate in October 2007 to 1.812 million lb (821.9 mt). The Council staff subsequently reviewed its analysis in light of these new harvest data for 2006 and submitted a supplement to the EA/RIR/IRFA (Appendix IV to the EA/RIR/IRFA, see ADDRESSES). The supplement revises Table 15 (Table A4-1 in Appendix IV). This table estimates the impact of each management option under the action alternative on the total amount of halibut harvested by the sport charter vessel fishery in 2006 relative to the current GHL if that management option had been in place in 2006. The revised analysis indicates that the daily bag/maximum size limit and prohibition on skipper/crew harvest of halibut together would reduce the charter vessel harvest in Area 2C to a range of 101 percent to 93 percent of the GHL. By weight, this expected harvest would be in the range of 1.448 million lb (656.8 mt) to 1.333 million lb (604.6 mt). This range would bracket the current GHL in Area 2C which is 1.432 million lb (649.5 mt). It is important to note that although the daily bag/maximum size limit and prohibition on skipper/crew harvest of halibut together would appear from the analysis to achieve the GHL, the analysis does not account for possible changes in fishing effort between 2006 and 2008.

When ADF&G presented its final estimate of the 2006 charter vessel harvest to the Council in October 2007, the Council decided not to reconsider its June 2007 recommendation which this action proposes to implement with Federal regulations. However, NMFS is particularly interested in public comment on these proposed regulations in light of the new final estimate of 2006 harvests of halibut by the charter vessel sector and the revised analysis of the potential effect of the proposed management measures, as indicated in the above paragraph. The intent of particularly soliciting public comment on this and other specific issues in this action is to maximize the ability of NMFS to achieve the intent of the Council to limit the catch of the guided sport charter vessel fishery in Area 2C to the GHL while minimizing the adverse impacts on the charter fishery, its sport fishing clients, the coastal communities that serve as home ports for this fishery, and on fisheries for other species. Based on public comment, and to achieve the intent of the Council and minimize adverse impacts, NMFS may implement either Option A or Option B in their entirety, or some portion of either option.

Line limits. A new Federal restriction is proposed that would limit the number of lines that could be fished from a charter vessel to six or the number of charter vessel anglers onboard the charter vessel, whichever is less. The existing IPHC gear limitation for a person sport fishing for halibut is a single line with no more than two hooks attached, or a spear (section 25(1) at 72 FR 11801). Hence, this restriction would prevent more than six charter vessel anglers on a vessel from fishing at the same time. This restriction is not viewed as onerous, however, because the charter vessels and charter vessel skippers in Southeast Alaska (Area 2C) typically are licensed by the U.S. Coast Guard to carry no more than six passengers. In addition, existing State of Alaska regulations (at 5 AAC 47.030(b)) limit the number of lines fished from a charter vessel generally to the number of clients onboard the vessel. A six-line limit has been in Alaska regulations since 1983, and limiting the number of lines fished to the number of clients onboard has been a requirement since 1997. The proposed line limits would reflect the existing Alaska regulations in Federal regulations specifically for halibut fishing.

Annual catch limit. The proposed annual catch limit of four halibut would impose a new restriction on each charter vessel angler in Area 2C of two daily bag limits of halibut per year. A sport fishing guide or charter vessel operator also would be responsible to know how many halibut each of his clients had previously harvested on a charter vessel that year and limit a charter vessel angler's harvest if necessary. For example, if a charter vessel angler arrives for a charter vessel fishing trip, the charter vessel guide would be required, before the trip begins, to record the number of halibut caught and retained year-to-date by each angler on the charter vessel (see discussion of recordkeeping and reporting below). A charter vessel angler who begins the trip with three halibut already harvested that year would be limited to only one additional halibut regardless of the two halibut daily bag limit.

No exceptions are proposed for this annual catch limit. This restriction would apply equally to youth anglers under 16 years of age who are not required to have an Alaska sport fishing license, anglers who are over 60 years of age, and anglers who are disabled veterans, both of which may have special Alaska sport fishing licenses. The proposed annual catch limit, however, would apply only to charter vessel anglers. Halibut harvested by non-guided sport fishermen would not count toward the proposed four-fish annual catch limit. Likewise, a charter vessel angler who has harvested her annual catch limit would be allowed to continue sport fishing for halibut as a non-guided angler subject to the existing two-halibut per day catch limit.

The analysis indicates that the proposed annual catch limit would reduce the charter vessel harvest by an estimated 0.335 million lb (151.9 mt). In conjunction with the other management measures under Option A, the anticipated effect of this restriction would be a reduction in total charter vessel harvests in Area 2C to a range of 84 percent to 78 percent of the current GHL (Table A4-1 of Appendix IV of the EA/RIR/IRFA). In terms of weight, the supplement to the analysis predicts (based on 2006 data) a charter vessel halibut harvest in Area 2C of between 1.208 million lb (547.9 mt) and 1.111 million lb (503.9 mt). Harvests in this range would be less than the current GHL in Area 2C, which is 1.432 million lb (649.5 mt).

The Council considered but did not recommend more liberal annual catch limits of five halibut and six halibut which would allow a total charter vessel harvest in Area 2C closer to the GHL. According to the supplement of the analysis, the predicted harvest under the Option A management measures using a six-halibut annual catch limit instead of a four-halibut annual catch limit would range from 1.386 million lb (628.7 mt) to 1.276 million lb (578.8 mt), and using a five-halibut annual catch limit instead of a four-halibut annual catch limit would range from 1.313 million lb (595.6 mt) to 1.209 million lb (548.4 mt). NMFS is particularly interested in public comment on these annual catch limits (6, 5, and 4 halibut) given the new final estimate of 2006 charter vessel harvest. The intent of particularly soliciting public comment on this and other specific issues in this action is to maximize the ability of NMFS to achieve the intent of the Council to limit the catch of the guided sport charter vessel fishery in Area 2C to the GHL while minimizing the adverse impacts on the charter fishery, its sport fishing clients, the coastal communities that serve as home ports for this fishery, and on fisheries for other species. Based on public comment, and to achieve the intent of the Council and minimize adverse impacts, NMFS may implement an annual catch limit of 6, 5, or 4 halibut, or no annual limit.

Recordkeeping and reporting. The Area 2C annual catch limit for charter vessel anglers proposed under Option A would require new recordkeeping and reporting requirements for charter vessel anglers and guides. This information collection is necessary to monitor and enforce the area specific annual catch limit. Charter vessel guides and anglers are individually and collectively responsible for the accuracy and completeness of recorded information on halibut caught and retained. The Council, NMFS, and ADF&G stressed the importance of minimizing reporting burden on the charter vessel industry and developed a proposed information collection program that allows for the recording of necessary information in the existing ADF&G Saltwater Sport Fishing Charter Trip Logbook and on existing State of Alaska sport fishing licenses or catch cards.

Each charter vessel angler would be required to record on the back of his or her State of Alaska Sport Fishing License or catch card the date and number of halibut caught and retained in Area 2C. This information is necessary to monitor retained catch relative to the annual catch limit and to provide information to a charter vessel guide on the number of halibut retained to date during a calendar year so that the angler's annual catch limit is not exceeded during a charter vessel fishing trip. Each angler who retains halibut catch from Area 2C would be required to retain his or her license or catch card for a period of three years from the date of the latest Area 2C halibut entry. Maintenance of these records is necessary in the event that NMFS Enforcement needs to verify the number of retained halibut catch recorded by the angler or compare an angler's record of retained halibut with the number of retained halibut in Area 2C as recorded by charter vessel guides for that angler in the ADF&G Saltwater Sport Fishing Charter Trip Logbook.

Information recorded in the ADF&G Saltwater Sport Fishing Charter Trip Logbook on the number of halibut caught and retained in Area 2C by each charter vessel angler would be used by NMFS to monitor and enforce the annual catch limit. Specific logbook information requirements are summarized below for charter vessel guides and anglers.

Information Recorded in the ADF&G Saltwater Sport Fishing Charter Trip Logbook
Who records the information? | What information is recorded? | Purpose of information collection
Charter vessel guide | Sport fish charter business license number issued by ADF&G to a person that owns or employs the charter vessel The charter vessel guide license number issued by ADF&G to the guide that led the fishing trip | To provide the identity of the charter vessel business owner and guide who are mutually and severally responsible for accurate recordkeeping and reporting of charter vessel angler harvest of halibut in Area 2C.
| IPHC regulatory area fished—circle either regulatory area 2C or 3A where halibut were caught and retained. Separate logbook sheets must be completed if both areas were fished during the same charter vessel fishing trip | To verify that charter vessel fishing did or did not occur in Area 2C where an annual catch applies. The catch and retention of halibut in Area 2C triggers additional recordkeeping and reporting requirements.
| Angler sport fishing license number and printed name; the printed name and date of birth is recorded for each youth angler under 16 years of age | To record the identity of charter vessel anglers subject to the annual catch limit.
| From each angler's ADF&G sport fishing license or catch card, the total number of halibut caught and retained in the current year-to-date aboard a charter vessel in Area 2C | To provide the charter vessel guide information on the number of halibut each angler is allowed to retain during the fishing trip so that halibut are not retained in excess of each angler's annual catch limit.
| The total number of halibut caught and retained in Area 2C aboard a charter vessel during the current year-to-date from each charter vessel angler's sport fishing license or catch card | This information currently is required by ADF&G to estimate sport fish harvest of halibut and the proposed Federal requirement will be used to monitor angler-specific compliance with the annual catch limit.
| Signature of the charter vessel guide | Guide's acknowledgement that the recorded information is correct.
Charter vessel angler | Signature of the charter vessel angler | Angler's acknowledgement that his or her Area 2C halibut retention information is correctly recorded.

The ADF&G Saltwater Sport Fishing Charter Trip Logbook data sheets would be required to be submitted to the appropriate ADF&G office and according to the time schedule described in the instructions at the beginning of the logbook.

Option B Management Measures

The following management measures were recommended by the Council if the GHL decreases in Area 2C in 2008 to 1.217 million lb (552.0 mt). If implemented, the proposed regulations would remain in effect until changed by a new Federal regulatory action.

One-fish daily bag limit. This restriction would substitute a daily catch limit for a charter vessel angler of one halibut per day of any size for the existing daily catch limit of two halibut per day providing one of the two fish is no longer than 32 inches (81.3 cm). This restriction would be more onerous than the management measures described above under Option A. The Council reasoned that this more restrictive action would be necessary if the GHL in Area 2C were to decrease in 2008 to 1.217 million lb (552.0 mt). In conjunction with the proposed restrictions on harvest by skipper and crew and line limits, the Option B management measures are estimated to reduce the charter vessel harvest to a range of 76 percent to 53 percent of the current Area 2C GHL, or to a range of 63 to 89 percent of the reduced GHL. By weight, the estimated effect of the Option B management measures would be to allow a charter vessel harvest of from 1.089 million lb (494.0 mt) to 0.762 million lb (345.6 mt).

No harvest by skipper and crew. This restriction would be the same as that described above under Option A.

Line limits. This restriction would be the same as that described above under Option A.

Classification

An Initial Regulatory Flexibility Analysis (IRFA) was prepared, as required by section 603 of the Regulatory Flexibility Act. The IRFA describes the economic impact that this proposed rule, if adopted, would have on directly regulated small entities. A copy of this analysis and its updated supplement are available from NMFS (see ADDRESSES). A description of this action, why it is being considered, and the legal basis for this action are discussed above. The proposed action would implement one of two management options—Option A or Option B, or portions thereof, as described above—for the charter vessel halibut fishery in Area 2C. A summary of the analysis follows.

In 2006, 696 vessels operated as charter vessels in Area 2C. All of these operations are believed to be small entities, with annual gross revenues of less than the limit of $6.5 million dollars for charter vessels. The largest companies involved in the fishery, lodges or resorts that offer accommodations as well as an assortment of visitor activities, may be large entities under the Small Business Administration size standard. Key informant interviews have indicated that the absolute largest of these companies may gross more than $6.5 million per year, but that it was also possible for all of the entities involved in the charter vessel halibut of harvest to have grossed less than this amount. The number of small entities is likely to be overestimated because of the limited information on vessel ownership and operator revenues. However, it is likely that nearly all entities qualify as small businesses.

The demand for sport fishing on charter vessels depends on a number of factors including the number of halibut a charter vessel angler may catch and retain in a year or in a day. The proposed annual catch limit on charter vessel anglers under Option A may reduce demand for trips that target halibut. An annual catch limit may reduce the demand for multi-day trips and affect remote fishing lodges more than day-trip operators. Other species of bottom fish and salmon also are targeted by charter vessels. Some charter vessel operators also may have non-fishing business taking passengers for whale watching, bird watching or general sightseeing trips. A larger effect on the demand for charter vessel fishing trips may be experienced under reduced GHL, which would impose a one-halibut daily catch limit under Option B. The current daily catch limit is two halibut per day providing one of the fish is no more than 32 inches (81.3 cm) in length.

Prohibiting the harvest of halibut by charter vessel guides and crew may reduce the their overall compensation because the ability to harvest fish while working is sometimes considered part of their compensation. As discussed above, the State Commissioner has issued an emergency order in recent years to prohibit retention of fish by charter vessel guides and crew members (No. 1-R-02-07). This emergency order was comprehensive in that all fish were covered by the emergency order, and not just halibut. A Federal prohibition on charter vessel guide and crew harvest of halibut in Area 2C would be specific to halibut and therefore would be less restrictive and have less of an economic impact than has been experienced under the current State of Alaska emergency order.

Little information is available on charter vessel operations or on how charter vessel anglers and operators may respond to proposed changes. It is not possible to predict quantitatively the impact on gross or net revenues, or on entry or exit from the industry. This proposed action is expected to reduce the amount of halibut harvested by charter vessels relative to what they have harvested in recent years. The regulatory burden is expected to be highest for the smallest firms, those involved in multiple trips per day, those who offer multiday packages, and those who are unable to target species other than halibut. These operators may face reduced profits or losses. Key informant interviews indicated that profit margins in the industry are small for some operators and that the proposed management options could reduce or eliminate those margins and force some operators out of business.

NMFS has examined two alternatives to this action: the no-action or status quo alternative, and the action alternative. Alternative 1, the status quo, would retain the two-fish bag limit with one of the two fish less than or equal to 32 inches (83.1 cm) in length, without changes. Alternative 2, the action alternative, considered 13 options for different combinations of management measures to restrict the charter halibut harvest to the Area 2C GHL. The options included limiting vessels to one trip per day; restricting harvest by guide and crew while clients are onboard; limiting the number of lines to six per vessel, not to exceed the number of paying clients onboard; daily bag limits of one or two fish (including sub-options for size limit slots and specific months when the bag limit would apply); and annual harvest limits of four, five, or six fish per charter angler. Two preferred options (Option A and Option B) were selected by considering different combinations of management measures that would minimize the impacts on small entities while still meeting the management objective of restricting the charter vessel harvest of halibut to the GHL.

This proposed rule has been determined to be not significant for the purposes of Executive Order (E.O.) 12866.

This proposed rule complies with the Halibut Act and the Secretary's authority to implement allocation measures for the management of the halibut fishery.

This proposed rule contains a collection-of-information requirement subject to review and approval by OMB under the Paperwork Reduction Act (PRA). This requirement has been submitted to OMB for approval. The public reporting burden for charter vessel guide respondents to fill out and submit logbook data sheets is estimated to average five minutes per response. The public reporting burden for charter vessel anglers to sign the logbook, record the number of halibut caught and retained in Area 2C on an Alaska Sport Fishing License or catch card, and retain that document is estimated to average 2 minutes per response. These estimates include the time for reviewing instructions, searching existing data sources, gathering and maintaining the data needed, and completing and reviewing the collection-of-information.

Public comment is sought regarding whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS Alaska Region (see ADDRESSES) and by e-mail to David_Rostker@omb.eop.gov or fax to (202) 395-7285.

Notwithstanding any other provision of the law, no person is required to respond to, and no person shall be subject to penalty for failure to comply with, a collection-of-information subject to the requirements of the PRA, unless that collection of information displays a currently valid OMB control number.

This proposed action is consistent with E.O. 12962 which directs Federal agencies to improve the quantity, function, sustainable productivity, and distribution of aquatic resources for increased recreational fishing opportunities “to the extent permitted by law and where practicable.” This E.O. does not diminish NMFS's responsibility to address allocation issues, nor does it require NMFS or the Council to limit their ability to manage recreational fisheries. E.O. 12962 provides guidance to NMFS to improve the potential productivity of aquatic resources for recreational fisheries. This proposed rule does not diminish that productivity or countermand the intent of E.O. 12962.

List of Subjects in 50 CFR Part 300

Fisheries, Fishing, Reporting and recordkeeping requirements, Treaties.

Dated: December 21, 2007.
Samuel D. Rauch III,
Deputy Assistant Administrator for Regulatory Programs, National Marine Fisheries Service.

For the reasons set out in the preamble, NMFS proposes to amend 50 CFR part 300 as follows:

PART 300—INTERNATIONAL FISHERIES REGULATIONS

1. The authority citation for 50 CFR part 300, subpart E, continues to read as follows:

Authority: 16 U.S.C. 773-773k.

Subpart E—[Amended]

2. In § 300.61, add definitions for “Area 3A”, “Charter vessel angler”, “Charter vessel fishing trip”, and “Charter vessel guide” in alphabetical order to read as follows:

§ 300.61 Definitions.

* * * * *

Area 3A means all waters between Area 2C and a line extending from the most northerly point on Cape Aklek (57°41′15″ N. latitude, 155°35′00″ W. longitude) to Cape Ikolik (57°17′17″ N. latitude, 154°47′18″ W. longitude), then along the Kodiak Island coastline to Cape Trinity (56°44′50″ N. latitude, 154°08′44″ W. longitude), then 140° true.

* * * * *

Charter vessel angler means a person, paying or nonpaying, using the services of a charter vessel guide.

Charter vessel fishing trip means the time period between the first deployment of fishing gear into the water from a charter vessel and offloading one or more charter vessel anglers or any halibut from the charter vessel.

Charter vessel guide means a person who has been issued an annual guide license by the Alaska Department of Fish and Game.

* * * * *

3. In § 300.65, revise paragraph (d) to read as follows:

§ 300.65 Catch sharing plan and domestic management measures in waters in and off Alaska.

OPTION A

* * * * *

(d) Guideline harvest level management measures—(1) Daily bag limit in Area 2C. Halibut harvest on a charter vessel is limited to no more than two halibut per person per calendar day provided that at least one of the harvested halibut has a head-on length of no more than 32 inches (81.3 cm). If a charter vessel angler retains only one halibut in a calendar day, that halibut may be of any length.

(2) Charter vessel guide and crew restriction in Area 2C. A charter vessel guide, a charter vessel operator, and crew of a charter vessel must not catch and retain halibut during a charter vessel fishing trip.

(3) Line limit in Area 2C. The number of lines used to fish for halibut must not exceed six or the number of charter vessel anglers onboard the charter vessel, whichever is less.

(4) Annual limit in Area 2C. The combined number of halibut that may be harvested by a charter vessel angler in Area 2C during a calendar year must not exceed four fish.

(5) Recordkeeping and reporting requirements in Area 2C. The following information must be recorded by charter vessel anglers and charter vessel guides for each charter vessel fishing trip in Area 2C:

(i) Charter vessel angler requirements—(A) State of Alaska Sport Fishing License. Each charter vessel angler, including a youth angler under 16 years of age and an angler over 60 years of age, who retains halibut caught in Area 2C must record on the back of his or her State of Alaska Sport Fishing License or catch card the date and number of halibut caught and retained in Area 2C.

(B) Retention requirements. A State of Alaska Sport Fishing License or catch card with a record of halibut caught and retained in Area 2C must be retained by the individual named on the license or catch card for a period of three years from the date of the latest Area 2C halibut entry.

(C) Angler signature. At the end of a charter fishing trip, each charter vessel angler who retains halibut caught in Area 2C must acknowledge that his or her information and the number of halibut kept are recorded correctly by signing the back of the Alaska Department of Fish and Game Saltwater Sport Fishing Charter Trip Logbook data sheet on the line number that corresponds to the angler's information on the front of the logbook data sheet.

(ii) Charter vessel guide requirements. For each charter vessel fishing trip in Area 2C, the charter vessel guide leading the charter vessel fishing trip is required to record the following information in the Alaska Department of Fish and Game Saltwater Sport Fishing Charter Trip Logbook:

(A) Business owner license number. The sport fish charter business license number issued by the Alaska Department of Fish and Game to a person who owns or employs the charter vessel.

(B) Guide license number. The charter vessel guide license number issued by the Alaska Department of Fish and Game to the charter vessel guide that led the fishing trip and certified the logbook data sheet.

(C) Date. Month and day for each charter vessel fishing trip taken. A separate logbook data sheet is required for each charter vessel fishing trip if two or more trips were taken on the same day. A separate logbook data sheet is required for each calendar day that halibut are caught and kept during a multi-day trip.

(D) Regulatory area fished. Circle the regulatory area (Area 2C or Area 3A) where halibut were caught and kept during each charter vessel fishing trip. If halibut were caught and retained in Area 2C and Area 3A during the same charter vessel fishing trip, then a separate logbook data sheet must be used to record halibut caught and retained for each regulatory area.

(E) Angler sport fishing license number and printed name. Before a charter vessel fishing trip begins, record for each charter vessel angler the Alaska Sport Fishing License number for the current year, resident permanent license number, or disabled veteran license number, and print the name of each paying and nonpaying charter vessel angler onboard that will fish for halibut. Record the name and date of birth of each youth angler under 16 years of age.

(F) Year-to-date halibut caught. Before a charter vessel fishing trip begins, record the total number of halibut caught and retained in the current year to date aboard a charter vessel in Area 2C for each charter vessel angler from his or her sport fishing license or catch card.

(G) Number of halibut retained. For each charter vessel angler, record the number of halibut caught and retained during the charter vessel fishing trip.

(H) Signature. At the end of a charter vessel fishing trip, acknowledge that the recorded information is correct by signing the logbook data sheet.

(I) Angler signature. Charter vessel guide is responsible for ensuring that anglers comply with the signature requirements at § 300.65(d)(5)(i)(C).

(6) Recordkeeping and reporting requirements in Area 3A. For each charter vessel fishing trip in Area 3A, the charter vessel guide leading the charter vessel fishing trip is required to record the regulatory area (Area 2C or Area 3A) where halibut were caught and kept by circling the appropriate area in the Alaska Department of Fish and Game Saltwater Sport Fishing Charter Trip Logbook. If halibut were caught and retained in Area 2C and Area 3A during the same charter vessel fishing trip, then a separate logbook data sheet must be used to record halibut caught and retained for each regulatory area.

(7) Logbook submission. Alaska Department of Fish and Game Saltwater Sport Fishing Charter Trip Logbook data sheets must be submitted to the appropriate Alaska Department of Fish and Game office according to the time schedule printed in the instructions at the beginning of the logbook.

* * * * *

OPTION B

* * * * *

(d) Charter vessels in Area 2C—(1) Daily bag limit. The number of halibut caught and retained by each charter vessel angler in Area 2C is limited to no more than one halibut per calendar day.

(2) Charter vessel guide and crew restriction. A charter vessel guide, a charter vessel operator, and crew of a charter vessel must not catch and retain halibut during a charter fishing trip.

(3) Line limit. The number of lines used to fish for halibut must not exceed six or the number of charter vessel anglers onboard the charter vessel, whichever is less.

* * * * *

4. In § 300.66, add paragraphs (n), (o), and (p) to read as follows:

§ 300.66 Prohibitions.

* * * * *

(n) Exceed any of the harvest or gear limitations specified at § 300.65(d).

(o) Fail to comply with the requirements at § 300.65(d).

(p) Fail to submit or submit inaccurate information on any report, license, catch card, application or statement required under § 300.65.

[FR Doc. E7-25407 Filed 12-28-07; 8:45 am]

BILLING CODE 3510-22-P